DEPARTMENT OF ENERGY

Federal Energy Regulatory Commission

[Docket No. IC19-13-000]

Commission Information Collection Activities (FERC-715); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-715 (Annual Transmission Planning and Evaluation Report) and submitting the information collection to the Office of Management and Budget (OMB) for review. Any interested person may file comments directly with OMB and should address a copy of those comments to the Commission as explained below. On December 27, 2018 (83 FR 66697), the Commission published a Notice in the Federal Register in Docket No. IC19-13-000 requesting public comments. The Commission received one comment, which is addressed in this Notice and will be included in the submittal to OMB.

DATES: Comments on the collection of information are due April 18, 2019.

ADDRESSES: Comments filed with OMB, identified by OMB Control No. 1902-0171, should be sent via email to the Office of Information and Regulatory Affairs: oira_submission@omb.gov. Attention: Federal Energy Regulatory Commission Desk Officer.

A copy of the comments should also be sent to the Commission, in Docket No. IC19-13-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-715, Annual Transmission Planning and Evaluation Report.

OMB Control No.: 1902-0171.

Type of Request: Three-year extension of the FERC-715 information collection requirements with no changes to the current reporting and recordkeeping requirements.

Abstract: Acting under FPA section 213,¹ FERC requires each transmitting utility that operates integrated transmission system facilities rated above 100 kilovolts (kV) to submit annually:

¹ 16 U.S.C. 824l.

• Contact information for the FERC-715;

• Base case power flow data (if it does not participate in the development and use of regional power flow data);

• Transmission system maps and diagrams used by the respondent for transmission planning;

• A detailed description of the transmission planning reliability criteria used to evaluate system performance for time frames and planning horizons used in regional and corporate planning;

• A detailed description of the respondent's transmission planning assessment practices (including, but not limited to, how reliability criteria are applied and the steps taken in performing transmission planning studies); and

• A detailed evaluation of the respondent's anticipated system performance as measured against its stated reliability criteria using its stated assessment practices.

The FERC-715 enables the Commission to use the information as part of their regulatory oversight functions which include:

• The review of rates and charges;

• The disposition of jurisdictional facilities;

• The consolidation and mergers;

• The adequacy of supply and;

• Reliability of the nation's transmission grid.

The FERC-715 enables the Commission to facilitate and resolve transmission disputes. Additionally, the Office of Electric Reliability (OER) uses the FERC-715 data to help protect and improve the reliability and security of the nation's bulk power system. OER oversees the development and review of mandatory reliability and security standards and ensures compliance with the approved standards by the users, owners, and operators of the bulk power system. OER also monitors and addresses issues concerning the nation's bulk power system including assessments of resource adequacy and reliability.

Without the FERC-715 data, the Commission would be unable to evaluate planned projects or requests related to transmission.

Summary and Response to Public Comment: In response to the Notice of Information Collection and Request for Comments published in the Federal Register on December 27, 2018, the Commission received one comment from the American Public Power Association (APPA). The comment recommended enhancing the current FERC Form No. 715 collection process to have each of the six submission parts better segregated from each other to allow for more granular responses to data requests and limit the release of components of the report which are Critical Energy/Electric Infrastructure Information (CEII).

These recommendations will be taken under consideration in the event of potential future revisions of the FERC Form No. 715 process.

Type of Respondent: Integrated transmission system facilities rated at or above 100 kilovolts (kV).

Estimate of Annual Burden: ² The Commission estimates the total annual burden and cost ³ for this information collection as follows.

² “Burden” is the total time, effort, or financial resources expended by persons to generate, maintain, retain, or disclose or provide information to or for a Federal agency. For further explanation of what is included in the information collection burden, refer to Title 5 Code of Federal Regulations 1320.3.

FERC-715—Annual Transmission Planning and Evaluation Report
| Number of respondents | Annual number of responses per respondent | Total number of responses | Average burden & cost per response | Total annual burden hours & total annual cost | Cost per respondent ($)
| (1) | (2) | (1) * (2) = (3) | (4) | (3) * (4) = (5) | (5) ÷ (1)
Annual Transmission Planning and Evaluation Report ⁴ | 111 | 1 | 111 | 160 hrs.; $11,897.60 | 17,760 hrs.; $1,320,633.60 | $11,897.60

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The hourly cost (for salary plus benefits) uses the figures from the Bureau of Labor Statistics, May 2017. These figures include salary (https://www.bls.gov/oes/current/naics2_22.htm) and benefits (http://www.bls.gov/news.release/ecec.nr0.htm) and are:

—Management (Code 11-0000), $94.28/hr.

—Computer and mathematical (Code 15-0000), $63.25/hr.

—Electrical Engineers (Code 17-2071), $66.90/hr.

—Economist (Code 19-3011), $71.98/hr.

—Computer and Information Systems Managers (Code 11-3021), $96.51/hr.

—Accountants and Auditors (Code 13-2011), $56.59/hr.

—Transportation, Storage, and Distribution Managers (Code 11-3071), $88.61/hr.

—Power Distributors and Dispatchers (Code 51-8012), $56.74/hr.

We are using the average hourly cost (for wages plus benefits, for these categories) of $74.36/hour.

⁴ In 2018, FERC had 111 direct filings (responses) from entities. However there were 239 total respondents if Transmitting Utilities that have their filing submitted by a designated reporting agent, such as a regional entity, are counted independently.

Dated: March 12, 2019.
Kimberly D. Bose,
Secretary.

[FR Doc. 2019-05048 Filed 3-18-19; 8:45 am]

BILLING CODE 6717-01-P